FEDERAL ELECTION COMMISSION

[Notice 2009-08]

Filing Dates for the California Special Election in the 32nd Congressional District

AGENCY: Federal Election Commission.

ACTION: Notice of filing dates for special election.

SUMMARY: California has scheduled a special general election on May 19, 2009, to fill the U.S. House of Representatives seat in the Thirty-Second Congressional District vacated by Representative Hilda Solis. Under California law, a majority winner in a special election is declared elected. Should no candidate achieve a majority vote, a special runoff election will be held on July 14, 2009, among the top vote-getters of each qualified political party, including qualified independent candidates.

Political committees participating in the California special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on May 7, 2009; a Pre-Runoff Report on July 2, 2009; and a Post-Runoff Report on August 13, 2009. (See chart below for the closing date for each report).

If only one election is held, all principal campaign committees of candidates in the Special General Election shall file a 12-day Pre-General Report on May 7, 2009; and a Post-General Report on June 18, 2009. (See chart below for the closing date for each report).

Note that these reports are in addition to the campaign committee's quarterly filings in July and October.

Unauthorized Committees (PACs and Party Committees)

Political committees filing on a semi-annual basis in 2009 are subject to special election reporting if they make previously undisclosed contributions or expenditures in connection with the California Special General Election and/ or Special Runoff Election by the close of books for the applicable report(s). (See chart below for the closing date for each report).

Political committees filing monthly that support candidates in the California Special General or Special Runoff Election should continue to file according to the monthly reporting schedule.

Additional disclosure information in connection with the California Special Election may be found on the FEC Web site at http://www.fec.gov/info/report_dates.shtml.

Calendar of Reporting Dates for California Special Election
Report | Close of books ¹ | Reg./cert. & overnight mailing deadline | Filing deadline
If Only the Special General is Held (05/19/09), Quarterly Filing Political Committees Involved Must File:
Pre-General | 04/29/09 | 05/04/09 | 05/07/09
Post-General | 06/08/09 | 06/18/09 | 06/18/09
July Quarterly | 06/30/09 | 07/15/09 | 07/15/09
If Only the Special General is Held (05/19/09), Semi-Annual Filing Political Committees Involved Must File:
Pre-General | 04/29/09 | 05/04/09 | 05/07/09
Post-General | 06/08/09 | 06/18/09 | 06/18/09
Mid-Year | 06/30/09 | 07/31/09 | 07/31/09
If Two Elections are Held, Quarterly Filing Political Committees Involved Only in the Special General (05/19/09) Must File:
Pre-General | 04/29/09 | 05/04/09 | 05/07/09
July Quarterly | 06/30/09 | 07/15/09 | 07/15/09
If Two Elections are Held, Semi-Annual Filing Political Committees Involved Only in the Special General (05/19/09) Must File:
Pre-General | 04/29/09 | 05/04/09 | 05/07/09
Mid-Year | 06/30/09 | 07/31/09 | 07/31/09
Quarterly Filing Political Committees Involved in the Special General (05/19/09) and Special Runoff (07/14/09) Must File:
Pre-General | 04/29/09 | 05/04/09 | 05/07/09
Pre-Runoff | 06/24/09 | 06/29/09 | 07/02/09
July Quarterly | 06/30/09 | 07/15/09 | 07/15/09
Post-Runoff | 08/03/09 | 08/13/09 | 08/13/09
October Quarterly | 09/30/09 | 10/15/09 | 10/15/09
Semi-Annual Filing Political Committees Involved in the Special General (05/19/09) and Special Runoff (07/14/09) Must File:
Pre-General | 04/29/09 | 05/04/09 | 05/07/09
Pre-Runoff | 06/24/09 | 06/29/09 | 07/02/09
Mid-Year | 06/30/09 | 07/31/09 | 07/31/09
Post-Runoff | 08/03/09 | 08/13/09 | 08/13/09
Year-End | 12/31/09 | 01/31/10 | 01/31/10
Quarterly Filing Political Committees Involved Only in the Special Runoff (07/14/09) Must File:
Pre-Runoff | 06/24/09 | 06/29/09 | 07/02/09
July Quarterly | 06/30/09 | 07/15/09 | 07/15/09
Post-Runoff | 08/03/09 | 08/13/09 | 08/13/09
October Quarterly | 09/30/09 | 10/15/09 | 10/15/09
Semi-Annual Filing Political Committees Involved Only in the Special Runoff (07/14/09) Must File:
Pre-Runoff | 06/24/09 | 06/29/09 | 07/02/09
Mid-Year | 06/30/09 | 07/31/09 | 07/31/09
Post-Runoff | 08/03/09 | 08/13/09 | 08/13/09
Year-End | 12/31/09 | 01/31/10 | 01/31/10
¹ The reporting period always begins the day after the closing date of the last report filed. If the committee is new and has not previously filed a report, the first report must cover all activity that occurred before the committee registered up through the close of books for the first report due.

Dated: March 20, 2009.
On behalf of the Commission.
Steven T. Walther,
Chairman, Federal Election Commission.

[FR Doc. E9-6699 Filed 3-25-09; 8:45 am]

BILLING CODE 6715-01-P